DEPARTMENT OF ENERGY

Federal Energy Regulatory Commission

Combined Notice of Filings #1

Take notice that the Commission received the following electric rate filings:

Docket Numbers: ER13-1356-002.

Applicants: Duke Energy Florida, LLC.

Description: Amendment to December 21, 2015 Compliance filing [including Pro Forma sheets] of Duke Energy Florida, LLC.

Filed Date: 1/8/16.

Accession Number: 20160108-5264.

Comments Due: 5 p.m. ET 1/29/16.

Docket Numbers: ER15-1618-003.

Applicants: Duke Energy Florida, LLC.

Description: Compliance filing: ROE Settlement IA's Amendment RS 80, 82 & 105 to be effective 5/1/2015.

Filed Date: 1/8/16.

Accession Number: 20160108-5124.

Comments Due: 5 p.m. ET 1/29/16.

Docket Numbers: ER16-704-000.

Applicants: Southwest Power Pool, Inc.

Description: Section 205(d) Rate Filing: Revisions to Identify US/Canada Border as a Point-of-Delivery/Point-of-Receipt to be effective 3/8/2016.

Filed Date: 1/8/16.

Accession Number: 20160108-5231.

Comments Due: 5 p.m. ET 1/29/16.

Docket Numbers: ER16-705-000.

Applicants: RE Garland LLC.

Description: Baseline eTariff Filing: Application and Initial Baseline Tariff Filing to be effective 2/12/2016.

Filed Date: 1/8/16.

Accession Number: 20160108-5238.

Comments Due: 5 p.m. ET 1/29/16.

Docket Numbers: ER16-706-000.

Applicants: RE Garland A LLC.

Description: Baseline eTariff Filing: Application and Initial Baseline Tariff Filing to be effective 2/12/2016.

Filed Date: 1/8/16.

Accession Number: 20160108-5239.

Comments Due: 5 p.m. ET 1/29/16.

Docket Numbers: ER16-707-000.

Applicants: NorthWestern Corporation.

Description: Section 205(d) Rate Filing: Ministerial Revisions to Montana OATT to be effective 3/12/2016.

Filed Date: 1/11/16.

Accession Number: 20160111-5134.

Comments Due: 5 p.m. ET 2/1/16.

Docket Numbers: ER16-709-000.

Applicants: No Applicants listed for this docket/subdocket.

Description: Section 205(d) Rate Filing: 607R26 Westar Energy, Inc. NITSA NOA to be effective 1/1/2016.

Filed Date: 1/11/16.

Accession Number: 20160111-5167.

Comments Due: 5 p.m. ET 2/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2016.
Nathaniel J. Davis, Sr.,
Deputy Secretary.

[FR Doc. 2016-00708 Filed 1-14-16; 8:45 am]

BILLING CODE 6717-01-P